DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, D.C. 20230. Applications may be examined between 8:30 A.M. and 5:00 P.M. in Suite 4100W, U.S. Department of Commerce, Franklin Court Building, 1099 14th Street, NW, Washington, D.C.

Docket Number: 05-018. Applicant: Oregon Health and Science University, Neurological Sciences Institute, 5050 N.W. 185th Avenue, Beaverton, OR 97006. Instrument: TriMScope Beam Multiplexor System. Manufacturer: La Vision BioTech GmbH, Germany. Intended Use: The instrument is intended to be used to study the anatomy and physiology of the animal brain at the subcellular level and the optical correlates of its electrical activity in order to resolve the fine structural alterations after global brain ischemia, prior to neuronal death, to identify early timepoints in which therapies can be delivered to prevent brain death. It will employ multiple infrared light beams prior to their passage through a microscope to illuminate the subsurface of the brain at a discrete focal plane. Application accepted by Commissioner of Customs: May 23, 2005.

Docket Number: 05-020. Applicant: University of California, San Diego, 9500 Gilman Drive, La Jolla, CA 92093-0332. Instrument: Electron Microscope, Model Technai G2 Sphera Manufacturer: FEI Company, The Netherlands. Intended Use: The instrument is intended to be used to image and study, among other things:

1. The structure and the mechanisms of action of various viruses.

2. Cell motility and adhesion of ventral membrane preparations of fibroblast cells.

3. The function of MsbA in membrane transport with drug-resistant bacteria.

4. Intercellular communication involving connexin protein and its function in x-linked diseases.

5. Trans-membrane signaling within human platelet protein integrin.

These studies will use low-dose cryoelectron microscopy techniques. Application accepted by Commissioner of Customs: June 8, 2005.

Docket Number: 05-021. Applicant: University of California, San Diego, 9500 Gilman Drive, La Jolla, CA 92093-0332. Instrument: Electron Microscope, Model Technai G2 Polara. Manufacturer: FEI Company, The Netherlands. Intended Use: The instrument is intended to be used to image and study, among other things:

1. The structure and the mechanisms of action of various viruses.

2. Cell motility and adhesion of ventral membrane preparations of fibroblast cells.

3. The function of MsbA in membrane transport with drug-resistant bacteria.

4. Intercellular communication involving connexin protein and its function in x-linked diseases.

5. Trans-membrane signaling within human platelet protein integrin.

These studies will use low-dose cryoelectron microscopy techniques. Application accepted by Commissioner of Customs: June 8, 2005.

Gerald A. Zerdy,
Program Manager, Statutory Import Programs Staff.

[FR Doc. E5-3256 Filed 6-21-05; 8:45 am]

BILLING CODE 3510-DS-S